DEPARTMENT OF HEALTH AND HUMAN SERVICES

Health Resources and Services Administration

Maternal and Child Health Collaborative Office Rounds

AGENCY: Health Resources and Services Administration, HHS.

ACTION: Notice of a class deviation from competition requirements for Maternal and Child Health Collaborative Office Rounds.

SUMMARY: HRSA announces the award of an extension in the amount of $150,000 for the Maternal and Child Health Collaborative Office Rounds (MCH-COR) grants. The purpose of the program is to foster joint pediatrics-child psychiatry continuing education in the psychosocial development aspects of child health, utilizing a study group approach that emphasizes the practical challenges confronted by community based practitioners. The extension will permit recipients to continue activities within the scope of the current award while the program is evaluated, during the budget period of 7/1/2016-6/30/2017.

FOR FURTHER INFORMATION CONTACT: Rita Maldonado, Division of Maternal Child Health Workforce Development, Maternal and Child Health Bureau, Health Resources and Services Administration, 5600 Fishers Lane, Room 18W13A, Rockville, MD 20852, Phone: 301.443.3622, Email: RMaldonado@hrsa.gov.

SUPPLEMENTARY INFORMATION:

Intended Recipient of the Award: Children's Research Institute, Johns Hopkins University, New York School of Medicine, Regents of the University of Minnesota, The Regents of the University of California, San Francisco. The Regents of the University of Michigan, Trustees of Dartmouth College, University of Illinois, Yale University.

Amount of Each Non-Competitive Awards: $15,000.

Period of Supplemental Funding: 7/1/2016-6/30/2017.

CFDA Number: 93.110

Authority: Social Security Act, Title V, Section 502(a)(1)

Justification: MCHB is requesting a one-time extension to continue activities while the program is evaluated to determine future activities using the COR model. MCHB will evaluate the basic structure of the COR model, identify gaps, and propose possible enhancements to the model.

Grant recipient/organization name | Grant No. | State | Current project start date | Current project end date | Revised project end date | FY 2015 authorized funding level | FY 2016 estimated funding level
CHILDREN'S RESEARCH INSTITUTE | T20MC21950 | DC | 7/1/2011 | 6/30/2016 | 6/30/2017 | $15,000 | $15,000
Children's Research Institute | T20MC07472 | OH | 7/1/2011 | 6/30/2016 | 6/30/2017 | 15,000 | 15,000
JOHNS HOPKINS UNIVERSITY | T20MC07464 | MD | 7/1/2011 | 6/30/2016 | 6/30/2017 | 15,000 | 15,000
NEW YORK UNIVERSITY SCHOOL OF MEDICINE | T20MC21951 | NY | 7/1/2011 | 6/30/2016 | 6/30/2017 | 14,999 | 14,999
Regents of the University of Minnesota | T20MC07469 | MN | 7/1/2011 | 6/30/2016 | 6/30/2017 | 15,000 | 15,000
The Regents of the University of California, San Francisco | T20MC21952 | CA | 7/1/2011 | 6/30/2016 | 6/30/2017 | 15,000 | 15,000
THE REGENTS OF THE UNIVERSITY OF MICHIGAN | T20MC07463 | MI | 7/1/2011 | 6/30/2016 | 6/30/2017 | 15,000 | 15,000
TRUSTEES OF DARTMOUTH COLLEGE | T20MC07473 | NH | 7/1/2011 | 6/30/2016 | 6/30/2017 | 15,000 | 15,000
UNIVERSITY OF ILLINOIS | T20MC25634 | IL | 7/1/2011 | 6/30/2016 | 6/30/2017 | 14,859 | 14,859
YALE UNIVERSITY | T20MC21953 | CT | 7/1/2011 | 6/30/2016 | 6/30/2017 | 15,000 | 15,000

Dated: May 13, 2016.
James Macrae,
Acting Administrator.

[FR Doc. 2016-11950 Filed 5-19-16; 8:45 am]

BILLING CODE 4165-15-P